INTERNATIONAL TRADE COMMISSION

[USITC SE-16-005]

Government in the Sunshine Act Meeting Notice

AGENCY HOLDING THE MEETING: United States International Trade Commission.

TIME AND DATE: February 26, 2016 at 12:00 p.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. Nos. 701-TA-554 and 731-TA-1309 (Preliminary)(Certain Biaxial Integral Geogrid Products from China). The Commission is currently scheduled to complete and file its determinations on February 29, 2016; views of the Commission are currently scheduled to be completed and filed on March 7, 2016.

5. Outstanding action jackets: None.

In accordance with Commission policy, subject matter listed above, not disposed of at the scheduled meeting, may be carried over to the agenda of the following meeting.

By order of the Commission.
Dated: February 18, 2016.
William R. Bishop,
Supervisory Hearings and Information Officer.

[FR Doc. 2016-03748 Filed 2-18-16; 4:15 pm]

BILLING CODE 7020-02-P